ENVIRONMENTAL PROTECTION AGENCY

[FRL-9712-6]

Notification of Two Public Quality Review Teleconferences of the Chartered Science Advisory Board

AGENCY: Environmental Protection Agency (EPA).

ACTION: Notice.

SUMMARY: The EPA Science Advisory Board (SAB) Staff Office announces two public teleconferences of the chartered SAB to conduct quality reviews of: (1) An SAB draft review report on EPA's ecological assessment action plan and (2) an SAB draft review report on EPA's accounting framework for biogenic carbon dioxide emissions from stationary sources.

DATES: The public teleconference on August 28, 2012, will be held from 2:00 p.m. to 5:00 p.m. The public teleconference on August 31, 2012, will be held from 11:00 a.m. to 2:00 p.m.

ADDRESSES: The public teleconferences will be conducted by telephone only.

FOR FURTHER INFORMATION CONTACT: Any member of the public wishing to obtain general information the quality review teleconferences should contact Dr. Angela Nugent, Designated Federal Officer (DFO), EPA Science Advisory Board (1400R), 1200 Pennsylvania Avenue NW., Washington, DC 20460; via telephone/voice mail (202) 564-2218; fax (202) 565-2098 or via email at nugent.angela@epa.gov. General information concerning the EPA Science Advisory Board can be found on the SAB Web site at http://www.epa.gov/sab.

SUPPLEMENTARY INFORMATION: Pursuant to the Federal Advisory Committee Act (FACA), 5 U.S.C., App. 2, notice is hereby given that the EPA Science Advisory Board will hold two public teleconferences to conduct quality reviews of two SAB draft reports. The SAB was established pursuant to 42 U.S.C. 4365 to provide independent scientific and technical advice to the Administrator on the technical basis for Agency positions and regulations. The SAB is a Federal Advisory Committee under FACA. The SAB will comply with the provisions of FACA and all appropriate SAB Staff Office procedural policies.

Background

Quality review is a key function of the chartered SAB. Draft reports prepared by SAB committees, panels, or work groups must be reviewed and approved by the chartered SAB before transmittal to the EPA Administrator. The chartered SAB makes a determination in an open, public meeting consistent with FACA about the quality of all draft reports and determines whether the report is ready to be transmitted to the EPA Administrator.

August 28, 2012 teleconference. The purpose of the August 28, 2012 teleconference is for the chartered SAB to conduct a quality review of a draft SAB report entitled “SAB Review (7-24-12 Draft) of the EPA's Ecological Assessment Action Plan.” The EPA's Office of the Science Advisor requested that the SAB review the agency's ecological assessment action plan developed in response to recommendations in a 2007 SAB report, “Advice to EPA on Advancing the Science and Application of Ecological Risk Assessment in Environmental Decision-Making” (EPA-SAB-08-002). Background information about this advisory activity can be found on the SAB Web site at http://yosemite.epa.gov/sab/sabproduct.nsf/fedrgstr_activites/RAF%20Eco%20Action%20Plan?OpenDocument.

August 31, 2012 teleconference. The purpose of the August 31, 2012 teleconference is for the chartered SAB to conduct a quality review of a draft SAB report entitled “SAB Review (7-26-12 Draft) of EPA's Accounting Framework for Biogenic CO2 Emissions from Stationary Sources (September 2011).” The EPA's Office of Air and Radiation requested the SAB review the scientific and technical issues associated with an agency draft framework that assesses options for accounting for carbon dioxide emissions from biogenic sources. Background information about this advisory activity can be found on the SAB Web site at http://yosemite.epa.gov/sab/sabproduct.nsf/fedrgstr_activites/Accounting%20for%20biogenic%20CO2?OpenDocument.

Availability of Meeting Materials: The agenda and other materials in support of the teleconferences will be placed on the SAB Web site at http://www.epa.gov/sab in advance of the teleconferences.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the group providing advice, EPA's charge questions and EPA review or background documents. Input from the public to the SAB will have the most impact if it consists of comments that provide specific scientific or technical information or analysis for the SAB panel to consider or if it relates to the clarity or accuracy of the technical information. Members of the public wishing to provide comment should contact the DFO for the relevant advisory committee directly. Oral Statements: In general, individuals or groups requesting time to make an oral presentation at a public SAB teleconference will be limited to three minutes, with no more than one-half hour for all speakers. Those interested in being placed on the public speakers list for the August 28 and 31, 2012 teleconferences should contact Dr. Nugent at the contact information provided above by August 21, 2012. Written Statements: Written statements for the August 28, 2012, teleconference should be supplied to the DFO via email to nugent.angela@epa.gov by August 21, 2012. Written statements for the August 31, 2012, teleconference should be supplied to the DFO via email to nugent.angela@epa.gov by August 24, 2012. Written statements should be supplied in one of the following acceptable file format: Adobe Acrobat PDF, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Nugent, as appropriate at the contact information provided above. To request accommodation of a disability, please contact her preferably at least 10 days prior to the teleconference, to give EPA as much time as possible to process your request.

Dated: July 26, 2012.
Thomas H. Brennan,
Deputy Director, EPA Science Advisory Board Staff Office.

[FR Doc. 2012-19310 Filed 8-6-12; 8:45 am]

BILLING CODE 6560-50-P